CORPORATION FOR NATIONAL AND COMMUNITY SERVICE

Guidance Document Portal

AGENCY: Corporation for National and Community Service.

ACTION: Notice of availability.

SUMMARY: Pursuant to Executive Order 13891 and OMB Memorandum M-20-02, the Corporation for National and Community Service (CNCS) is notifying the public of the February 28, 2020 launch of a single, searchable, indexed database containing all CNCS guidance documents currently in effect.

DATES: February 28, 2020.

ADDRESSES: www.nationalservice.com/guidance.

FOR FURTHER INFORMATION CONTACT: Amy Borgstrom, Associate Director of Policy, aborgstrom@cns.gov, (202) 606-6930.

SUPPLEMENTARY INFORMATION: Section 3 of Executive Order 13891 requires federal agencies to “establish or maintain on its website a single, searchable, indexed database that contains or links to all guidance documents in effect from such agency or component.” Executive Order 13891, 84 FR 55,235 (October 9, 2019).

Question 1 of OMB Memorandum M-20-02 further requires agencies to “send to the Federal Register a notice announcing the existence of the new guidance portal and explaining that all guidance documents remaining in effect are contained on the new guidance portal.” OMB Memorandum M-20-02 (October 31, 2019).

In compliance with the above, CNCS gives notice of the availability of a single, searchable, indexed database containing all CNCS guidance documents currently in effect, which may be accessed at www.nationalservice.gov/guidance on or after February 28, 2020.

(Authority: E.O. 13891, 84 FR 55,235; OMB Memorandum M-20-02)

Dated: February 24, 2020.
Amy Borgstrom,
Associate Director of Policy.

[FR Doc. 2020-04226 Filed 2-28-20; 8:45 am]

BILLING CODE 6050-28-P